DEPARTMENT OF THE INTERIOR

National Park Service

Furnace Creek Water Management Plan, Death Valley National Park, Inyo County, California; Notice of Intent to Prepare an Environmental Impact Statement

SUMMARY: Pursuant to §102(2)(c) of the National Environmental Policy Act of 1969 (Pub. L. 91-190) and Council on Environmental Quality regulations (40 CFR 1502.9(c)), the National Park Service intends to prepare an Environmental Impact Statement for a water management plan for the Furnace Creek area in Death Valley National Park. The overall purpose of the plan is to provide for maintaining a sustainable water source meeting appropriate human use needs in the Furnace Creek area, while also protecting unique natural resource values in the area. Upgrading the water supply system is necessary because the existing system is subject to water quality problems. In addition, due to fluctuations in water volumes delivered by the current system, it does not provide a reliable supply of water.

Background: The objectives of the Furnace Creek Water Management Plan include developing a water collection strategy which will: (i) Serve the potable and non-potable Furnace Creek area human use water needs, including the NPS, the AmFac Inn and Ranch Resort, and the Timbisha Shoshone Tribe; (ii) provide for protecting existing biological resource values in the Travertine-Texas Springs area, as well as facilitating potential restoration of riparian and aquatic habitats, in a manner compatible with addressing existing governmental obligations to provide water according to extant amounts.

The current Furnace Creek water collection system was built in the mid-1970's and is nearing the end of its useful life span. The need for replacing this collection system now arises because the current infrastructure undergoes unpredictable fluctuations in the volume of water available for human use, and produces a quality of water that occasionally makes it difficult to achieve state water drinking standards. Since the facilities were originally constructed, inventories of water-dependent plants and animals and the discovery of several new endemic species in the local springs have created greater awareness of the biological value of local wetland and riparian habitats. In addition, completion of this EIS process is consistent with both the existing and draft revision of the park General Management Plan, as well as legislation regarding the Timbisha Shoshone Homeland.

Planning and Public Involvement: During the forthcoming conservation planning and environmental impact analysis process, alternatives and any requisite mitigation measures will be developed that will identify a reasonable range of options for providing a reliable and safe water supply system for Furnace Creek. The process will be conducted in consultation with State and local governments, organizations, Tribes, and interested members of the public. The Furnace Creek Water Management Plan will be prepared by the NPS; its anticipated that cooperating agencies for preparation of the EIS will be identified within 60 days of publication of this Notice in the Federal Register. The public will be invited to participate from the outset of the scoping process through completion of the draft and final EIS. To initiate this collaboration, three scoping meetings will be held during winter, 2001 as follows: January 30 (Pahrump), January 31 (Death Valley National Park), and February 1 (Independence). The exact locations and times of the meetings (or scheduling of any additional meetings) will be announced via regional and local news media.

Future Information: Information about development and status of the Furnace Creek Water Management Plan will be distributed via mailings, the Death Valley National Park Webpage (http://www.nps.gov/deva/planning), and regional and local news media. To request being added to the mailing list, please leave your name and address on the voice mail telephone at (760) 786-3256 or write to the address below. Interested individuals, organizations, and agencies wishing to provide any written comments on new issues or concerns should respond to: Superintendent, Attn: Furnace Creek Water Management Plan, Death Valley National Park, CA 92328. All such comments must be postmarked on or before March 14, 2001. If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision Process: Availability of the Draft EIS for review and comment will be announced by formal Notice in the Federal Register, through local and regional news media, the Park's Webpage, and direct mailing. At this time the Draft EIS is anticipated to be available for public review and comment in autumn 2001. Comments on the Draft EIS will be fully considered as an aid in preparing a Final EIS as appropriate. At this time it is anticipated that the Final EIS will be completed in summer 2002. It is anticipated that notice of an approved Record of Decision will be published in the Federal Register in winter 2002. The official responsible for the decision is the Regional Director, Pacific West Region, National Park Service; the official responsible for implementation is the Superintendent, Death Valley National Park.

Dated: November 7, 2000.
Patricia L. Neubacher,
Acting Regional Director, Pacific West.

[FR Doc. 00-29553 Filed 11-17-00; 8:45 am]

BILLING CODE 4310-70-P